DEPARTMENT OF THE INTERIOR

Bureau of Land Management

[NV-930-1430-ET; NVN-77880; 4-08807]

Notice of Proposed Withdrawal and Opportunity for Public Meeting; Nevada

AGENCY: Bureau of Land Management, Interior.

ACTION: Notice.

SUMMARY: The Bureau of Land Management has received a request from the Department of Energy to withdraw 308,600 acres of public land from surface entry and mining for a period of 20 years to evaluate the land for the potential construction, operation, and maintenance of a branch rail line for the transportation of spent nuclear fuel and high-level radioactive waste in the event the Nuclear Regulatory Commission authorizes a geologic repository at Yucca Mountain as provided for under the Nuclear Waste Policy Act of 1982, as amended. This notice segregates the land from surface entry and mining for up to 2 years while various studies and analyses are made to support a final decision on the withdrawal application.

DATES: Comments and requests for a meeting should be received on or before March 29, 2004.

ADDRESSES: Comments and meeting requests should be sent to the Nevada State Director, BLM, 1340 Financial Blvd., PO Box 12000, Reno, Nevada 89520-0006.

FOR FURTHER INFORMATION CONTACT: Dennis J. Samuelson, BLM Nevada State Office, 775-861-6532.

SUPPLEMENTARY INFORMATION: The Department of Energy has filed an application (NVN 77880) to withdraw the following described public land from settlement, sale, location, or entry under the general land laws, including the mining laws and the mineral leasing laws, subject to valid existing rights:

Mount Diablo Meridian

A corridor one mile in width that contains a portion of, or are wholly encompassed within, the following sections:

10S 46E 01 | 1N 55E 24 | 2N 58E 03 | 3N 48E 35 | 4N 49.2E 35
10S 46E 02 | 1N 55E 25 | 2N 58E 04 | 3N 48E 36 | 4N 49.2E 36
10S 46E 12 | 1N 55E 26 | 2N 58E 05 | 3N 49E 02 | 4N 49E 24
10S 46E 13 | 1N 55E 27 | 2N 58E 07 | 3N 49E 03 | 4N 49E 25
10S 47E 06 | 1N 55E 28 | 2N 58E 08 | 3N 49E 04 | 4N 49E 26
10S 47E 07 | 1N 55E 29 | 2N 58E 09 | 3N 49E 05 | 4N 49E 33
10S 47E 08 | 1N 55E 30 | 2N 58E 13 | 3N 49E 07 | 4N 49E 34
10S 47E 09 | 1N 55E 31 | 2N 58E 17 | 3N 49E 08 | 4N 49E 35
10S 47E 15 | 1N 55E 32 | 2N 58E 18 | 3N 49E 09 | 4N 49E 36
10S 47E 16 | 1N 55E 33 | 2N 58E 19 | 3N 49E 10 | 4N 50E 30
10S 47E 17 | 1N 56E 01 | 2N 58E 20 | 3N 49E 17 | 4N 50E 31
10S 47E 18 | 1N 56E 02 | 2N 58E 21 | 3N 49E 18 | 4N 50E 32
10S 47E 21 | 1N 56E 09 | 2N 58E 22 | 3N 49E 19 | 4N 60E 20
10S 47E 22 | 1N 56E 10 | 2N 58E 23 | 3N 50E 02 | 4N 60E 21
10S 47E 23 | 1N 56E 11 | 2N 58E 24 | 3N 50E 03 | 4N 60E 22
10S 47E 26 | 1N 56E 12 | 2N 58E 25 | 3N 50E 04 | 4N 60E 23
10S 47E 27 | 1N 56E 13 | 2N 58E 26 | 3N 50E 10 | 4N 60E 24
10S 47E 28 | 1N 56E 14 | 2N 58E 27 | 3N 50E 11 | 4N 60E 25
10S 47E 34 | 1N 56E 15 | 2N 58E 28 | 3N 50E 14 | 4N 60E 26
10S 47E 35 | 1N 56E 16 | 2N 58E 29 | 3N 50E 15 | 4N 60E 27
11S 47E 01 | 1N 56E 17 | 2N 58E 30 | 3N 50E 22 | 4N 60E 28
11S 47E 02 | 1N 56E 18 | 2N 58E 31 | 3N 50E 23 | 4N 60E 29
11S 47E 03 | 1N 56E 19 | 2N 58E 32 | 3N 50E 24 | 4N 60E 31
11S 47E 11 | 1N 56E 20 | 2N 59E 02 | 3N 50E 25 | 4N 60E 32
11S 47E 12 | 1N 56E 21 | 2N 59E 03 | 3N 50E 26 | 4N 60E 33
11S 47E 13 | 1N 57E 03 | 2N 59E 04 | 3N 50E 35 | 4N 61E 19
11S 47E 14 | 1N 57E 04 | 2N 59E 08 | 3N 50E 36 | 4N 61E 20
11S 47E 24 | 1N 57E 05 | 2N 59E 09 | 3N 58E 24 | 4N 61E 28
11S 47E 25 | 1N 57E 06 | 2N 59E 10 | 3N 58E 25 | 4N 61E 29
11S 48E 07 | 1N 62E 01 | 2N 59E 16 | 3N 58E 26 | 4N 61E 30
11S 48E 08 | 1N 62E 12 | 2N 59E 17 | 3N 58E 33 | 4N 61E 32
11S 48E 09 | 1N 63E 06 | 2N 59E 18 | 3N 58E 34 | 4N 61E 33
11S 48E 10 | 1N 63E 07 | 2N 59E 19 | 3N 58E 35 | 4N 61E 34
11S 48E 11 | 1N 63E 08 | 2N 59E 20 | 3N 58E 36 | 4S 43E 01
11S 48E 14 | 1N 63E 17 | 2N 60E 01 | 3N 59E 12 | 4S 43E 02
11S 48E 15 | 1N 63E 18 | 2N 61E 06 | 3N 59E 13 | 4S 43E 03
11S 48E 16 | 1N 63E 19 | 2N 62E 01 | 3N 59E 14 | 4S 43E 10
11S 48E 17 | 1N 63E 20 | 2N 62E 02 | 3N 59E 19 | 4S 43E 11
11S 48E 18 | 1N 63E 21 | 2N 62E 03 | 3N 59E 20 | 4S 43E 12
11S 48E 19 | 1N 63E 26 | 2N 62E 04 | 3N 59E 21 | 4S 43E 14
11S 48E 20 | 1N 63E 27 | 2N 62E 05 | 3N 59E 22 | 4S 43E 15
11S 48E 21 | 1N 63E 28 | 2N 62E 10 | 3N 59E 23 | 4S 43E 22
11S 48E 22 | 1N 63E 29 | 2N 62E 11 | 3N 59E 24 | 4S 43E 23
11S 48E 27 | 1N 63E 30 | 2N 62E 12 | 3N 59E 25 | 4S 43E 26
11S 48E 28 | 1N 63E 32 | 2N 62E 13 | 3N 59E 26 | 4S 43E 27
11S 48E 29 | 1N 63E 33 | 2N 62E 14 | 3N 59E 27 | 4S 43E 28
11S 48E 30 | 1N 63E 34 | 2N 62E 15 | 3N 59E 28 | 4S 43E 33
11S 48E 31 | 1N 63E 35 | 2N 62E 24 | 3N 59E 29 | 4S 43E 34
11S 48E 32 | 1S 43E 01 | 2N 62E 25 | 3N 59E 30 | 4S 67E 01
11S 48E 33 | 1S 43E 02 | 2N 62E 36 | 3N 59E 33 | 4S 67E 02
11S 48E 34 | 1S 43E 03 | 2N 63E 07 | 3N 59E 34 | 4S 67E 04
12S 48E 02 | 1S 43E 04 | 2N 63E 18 | 3N 59E 35 | 4S 67E 05
12S 48E 03 | 1S 43E 09 | 2N 63E 19 | 3N 59E 36 | 4S 67E 06
12S 48E 04 | 1S 43E 10 | 2N 63E 30 | 3N 60E 05 | 4S 67E 07
12S 48E 05 | 1S 43E 11 | 2N 63E 31 | 3N 60E 06 | 4S 67E 08
12S 48E 06 | 1S 43E 12 | 2S 43E 03 | 3N 60E 07 | 4S 67E 09
12S 48E 09 | 1S 43E 13 | 2S 43E 04 | 3N 60E 08 | 4S 67E 12
12S 48E 10 | 1S 43E 14 | 2S 43E 09 | 3N 60E 18 | 4S 68E 06
12S 48E 11 | 1S 43E 15 | 2S 43E 10 | 3N 60E 19 | 4S 68E 07
12S 48E 13 | 1S 43E 16 | 2S 43E 15 | 3N 60E 20 | 4S 68E 08
12S 48E 14 | 1S 43E 21 | 2S 43E 16 | 3N 60E 21 | 4S 68E 17
12S 48E 15 | 1S 43E 22 | 2S 43E 20 | 3N 60E 22 | 4S 68E 18
12S 48E 23 | 1S 43E 23 | 2S 43E 21 | 3N 60E 25 | 5S 43E 03
12S 48E 24 | 1S 43E 24 | 2S 43E 22 | 3N 60E 26 | 5S 43E 04
12S 48E 25 | 1S 43E 25 | 2S 43E 27 | 3N 60E 27 | 5S 43E 05
12S 48E 26 | 1S 43E 27 | 2S 43E 28 | 3N 60E 28 | 5S 43E 08
12S 48E 35 | 1S 43E 28 | 2S 43E 29 | 3N 60E 29 | 5S 43E 09
12S 48E 36 | 1S 43E 33 | 2S 43E 32 | 3N 60E 30 | 5S 43E 15
12S 49E 31 | 1S 43E 34 | 2S 43E 33 | 3N 60E 31 | 5S 43E 16
13S 48E 09 | 1S 44E 18 | 2S 43E 34 | 3N 60E 34 | 5S 43E 17
13S 48E 10 | 1S 44E 19 | 2S 43E 35 | 3N 60E 35 | 5S 43E 21
13S 48E 14 | 1S 44E 29 | 2S 43E 36 | 3N 60E 36 | 5S 43E 22
13S 48E 15 | 1S 44E 30 | 2S 44E 04 | 3N 61E 02 | 5S 43E 27
13S 48E 16 | 1S 44E 31 | 2S 44E 05 | 3N 61E 03 | 5S 43E 28
13S 48E 22 | 1S 44E 32 | 2S 44E 06 | 3N 61E 04 | 5S 43E 33
13S 48E 23 | 1S 51.2E 06 | 2S 44E 08 | 3N 61E 09 | 5S 43E 34
13S 48E 24 | 1S 51.2E 07 | 2S 44E 09 | 3N 61E 10 | 5S 43E 35
13S 48E 25 | 1S 51.2E 08 | 2S 44E 16 | 3N 61E 11 | 6S 43E 01
13S 48E 26 | 1S 51.2E 17 | 2S 44E 17 | 3N 61E 12 | 6S 43E 02
13S 48E 36 | 1S 51.2E 18 | 2S 44E 20 | 3N 61E 13 | 6S 43E 03
13S 49E 13 | 1S 51.2E 19 | 2S 44E 21 | 3N 61E 14 | 6S 43E 10
13S 49E 14 | 1S 51.2E 20 | 2S 44E 22 | 3N 61E 22 | 6S 43E 11
13S 49E 19 | 1S 51.2E 28 | 2S 44E 27 | 3N 61E 23 | 6S 43E 12
13S 49E 22 | 1S 51.2E 29 | 2S 44E 28 | 3N 61E 24 | 6S 43E 13
13S 49E 23 | 1S 51.2E 30 | 2S 44E 32 | 3N 61E 25 | 6S 43E 14
13S 49E 24 | 1S 51.2E 31 | 2S 44E 33 | 3N 61E 26 | 6S 43E 15
13S 49E 25 | 1S 51.2E 32 | 2S 44E 34 | 3N 61E 27 | 6S 43E 23
13S 49E 26 | 1S 51.2E 33 | 2S 51.2E 04 | 3N 61E 28 | 6S 43E 24
13S 49E 27 | 1S 51E 01 | 2S 51.2E 05 | 3N 61E 29 | 6S 43E 25
13S 49E 29 | 1S 51E 02 | 2S 51.2E 06 | 3N 61E 30 | 6S 43E 26
13S 49E 30 | 1S 51E 03 | 2S 51.2E 07 | 3N 61E 31 | 6S 43E 27
13S 49E 31 | 1S 51E 10 | 2S 51.2E 08 | 3N 61E 32 | 6S 43E 34
13S 49E 32 | 1S 51E 11 | 2S 51.2E 09 | 3N 61E 33 | 6S 43E 35
13S 49E 33 | 1S 51E 12 | 2S 51.2E 16 | 3N 61E 34 | 6S 43E 36
13S 49E 34 | 1S 51E 13 | 2S 51.2E 17 | 3N 61E 35 | 6S 44E 06
13S 49E 35 | 1S 51E 14 | 2S 51.2E 18 | 3N 61E 36 | 6S 44E 07
13S 49E 36 | 1S 51E 24 | 2S 51.2E 20 | 3N 62E 18 | 6S 44E 08
13S 50E 30 | 1S 51E 25 | 2S 51.2E 21 | 3N 62E 19 | 6S 44E 15
13S 50E 31 | 1S 51E 36 | 2S 51E 01 | 3N 62E 20 | 6S 44E 16
14S 49E 01 | 1S 52E 31 | 2S 51E 12 | 3N 62E 28 | 6S 44E 17
14S 49E 02 | 1S 53E 25 | 2S 52E 06 | 3N 62E 29 | 6S 44E 18
14S 49E 03 | 1S 53E 35 | 2S 52E 07 | 3N 62E 30 | 6S 44E 20
14S 49E 04 | 1S 53E 36 | 2S 52E 08 | 3N 62E 31 | 6S 44E 21
14S 49E 05 | 1S 54E 01 | 2S 52E 11 | 3N 62E 32 | 6S 44E 22
14S 49E 08 | 1S 54E 10 | 2S 52E 12 | 3N 62E 33 | 6S 44E 27
14S 49E 09 | 1S 54E 11 | 2S 52E 13 | 3N 62E 34 | 6S 44E 28
14S 49E 10 | 1S 54E 12 | 2S 52E 14 | 3N 62E 35 | 6S 44E 31
14S 49E 11 | 1S 54E 13 | 2S 52E 15 | 3S 43E 01 | 6S 44E 33
14S 49E 12 | 1S 54E 14 | 2S 52E 16 | 3S 43E 02 | 6S 44E 34
14S 49E 15 | 1S 54E 15 | 2S 52E 17 | 3S 43E 03 | 7S 43E 01
14S 49E 16 | 1S 54E 16 | 2S 52E 18 | 3S 43E 04 | 7S 43E 02
14S 50E 06 | 1S 54E 20 | 2S 52E 19 | 3S 43E 10 | 7S 43E 03
1N 43E 23 | 1S 54E 21 | 2S 52E 20 | 3S 43E 11 | 7S 43E 11
1N 43E 24 | 1S 54E 22 | 2S 52E 21 | 3S 43E 12 | 7S 43E 12
1N 43E 25 | 1S 54E 23 | 2S 52E 22 | 3S 43E 13 | 7S 43E 13
1N 43E 26 | 1S 54E 28 | 2S 52E 23 | 3S 43E 14 | 7S 43E 14
1N 43E 27 | 1S 54E 29 | 2S 53E 01 | 3S 43E 15 | 7S 43E 24
1N 43E 34 | 1S 54E 30 | 2S 53E 02 | 3S 43E 22 | 7S 43E 25
1N 43E 35 | 1S 54E 31 | 2S 53E 03 | 3S 43E 23 | 7S 44E 03
1N 43E 36 | 1S 55E 05 | 2S 53E 07 | 3S 43E 24 | 7S 44E 04
1N 44E 19 | 1S 55E 06 | 2S 53E 08 | 3S 43E 25 | 7S 44E 05
1N 44E 20 | 1S 55E 07 | 2S 53E 09 | 3S 43E 26 | 7S 44E 06
1N 44E 21 | 1S 63E 01 | 2S 53E 10 | 3S 43E 27 | 7S 44E 07
1N 44E 22 | 1S 63E 02 | 2S 53E 11 | 3S 43E 34 | 7S 44E 08
1N 44E 23 | 1S 63E 11 | 2S 53E 15 | 3S 43E 35 | 7S 44E 09
1N 44E 24 | 1S 63E 12 | 2S 53E 16 | 3S 43E 36 | 7S 44E 10
1N 44E 25 | 1S 63E 13 | 2S 53E 17 | 3S 44E 04 | 7S 44E 14
1N 44E 26 | 1S 64E 07 | 2S 53E 18 | 3S 44E 05 | 7S 44E 15
1N 44E 27 | 1S 64E 15 | 2S 65E 01 | 3S 44E 07 | 7S 44E 16
1N 44E 28 | 1S 64E 16 | 2S 65E 02 | 3S 44E 08 | 7S 44E 17
1N 44E 29 | 1S 64E 17 | 2S 65E 03 | 3S 44E 09 | 7S 44E 18
1N 44E 30 | 1S 64E 18 | 2S 65E 11 | 3S 44E 17 | 7S 44E 19
1N 45E 19 | 1S 64E 19 | 2S 65E 12 | 3S 44E 18 | 7S 44E 21
1N 45E 20 | 1S 64E 20 | 2S 65E 13 | 3S 44E 19 | 7S 44E 22
1N 45E 25 | 1S 64E 21 | 2S 65E 14 | 3S 44E 20 | 7S 44E 23
1N 45E 26 | 1S 64E 22 | 2S 66E 01 | 3S 44E 30 | 7S 44E 25
1N 45E 27 | 1S 64E 23 | 2S 66E 02 | 3S 44E 31 | 7S 44E 26
1N 45E 28 | 1S 64E 24 | 2S 66E 03 | 3S 67E 01 | 7S 44E 27
1N 45E 29 | 1S 64E 25 | 2S 66E 04 | 3S 67E 02 | 7S 44E 29
1N 45E 30 | 1S 64E 26 | 2S 66E 05 | 3S 67E 03 | 7S 44E 30
1N 45E 32 | 1S 64E 27 | 2S 66E 07 | 3S 67E 10 | 7S 44E 31
1N 45E 33 | 1S 65E 19 | 2S 66E 08 | 3S 67E 11 | 7S 44E 32
1N 45E 34 | 1S 65E 20 | 2S 66E 09 | 3S 67E 12 | 7S 44E 33
1N 45E 35 | 1S 65E 27 | 2S 66E 10 | 3S 67E 13 | 7S 44E 35
1N 45E 36 | 1S 65E 28 | 2S 66E 11 | 3S 67E 14 | 7S 44E 36
1N 46E 25 | 1S 65E 29 | 2S 66E 12 | 3S 67E 15 | 8S 44E 01
1N 46E 26 | 1S 65E 30 | 2S 66E 13 | 3S 67E 16 | 8S 44E 02
1N 46E 27 | 1S 65E 32 | 2S 66E 14 | 3S 67E 21 | 8S 44E 03
1N 46E 28 | 1S 65E 33 | 2S 66E 16 | 3S 67E 22 | 8S 44E 04
1N 46E 29 | 1S 65E 34 | 2S 66E 17 | 3S 67E 23 | 8S 44E 05
1N 46E 30 | 1S 65E 35 | 2S 66E 18 | 3S 67E 24 | 8S 44E 09
1N 46E 31 | 2N 47E 25 | 2S 66E 20 | 3S 67E 25 | 8S 44E 10
1N 46E 32 | 2N 47E 35 | 2S 66E 24 | 3S 67E 27 | 8S 44E 11
1N 46E 33 | 2N 47E 36 | 2S 67E 07 | 3S 67E 28 | 8S 44E 12
1N 46E 34 | 2N 48E 02 | 2S 67E 08 | 3S 67E 29 | 8S 44E 13
1N 46E 35 | 2N 48E 03 | 2S 67E 09 | 3S 67E 32 | 8S 44E 14
1N 46E 36 | 2N 48E 04 | 2S 67E 14 | 3S 67E 33 | 8S 44E 15
1N 47E 01 | 2N 48E 08 | 2S 67E 15 | 3S 67E 35 | 8S 44E 16
1N 47E 02 | 2N 48E 09 | 2S 67E 16 | 3S 67E 36 | 8S 44E 22
1N 47E 03 | 2N 48E 10 | 2S 67E 17 | 3S 68E 01 | 8S 44E 23
1N 47E 10 | 2N 48E 16 | 2S 67E 18 | 3S 68E 12 | 8S 44E 24
1N 47E 11 | 2N 48E 17 | 2S 67E 19 | 3S 68E 19 | 8S 44E 25
1N 47E 12 | 2N 48E 18 | 2S 67E 20 | 3S 68E 30 | 8S 44E 26
1N 47E 14 | 2N 48E 19 | 2S 67E 21 | 3S 68E 31 | 8S 44E 36
1N 47E 15 | 2N 48E 20 | 2S 67E 22 | 3S 69E 03 | 8S 45E 06
1N 47E 16 | 2N 48E 21 | 2S 67E 23 | 3S 69E 04 | 8S 45E 07
1N 47E 20 | 2N 48E 29 | 2S 67E 24 | 3S 69E 05 | 8S 45E 18
1N 47E 21 | 2N 48E 30 | 2S 67E 25 | 3S 69E 06 | 8S 45E 19
1N 47E 22 | 2N 48E 31 | 2S 67E 26 | 3S 69E 07 | 8S 45E 20
1N 47E 28 | 2N 50E 01 | 2S 67E 29 | 3S 69E 08 | 8S 45E 28
1N 47E 29 | 2N 50E 02 | 2S 67E 30 | 3S 69E 09 | 8S 45E 29
1N 47E 30 | 2N 50E 11 | 2S 67E 35 | 3S 69E 10 | 8S 45E 30
1N 47E 31 | 2N 50E 12 | 2S 67E 36 | 3S 69E 11 | 8S 45E 31
1N 47E 32 | 2N 50E 13 | 2S 68E 19 | 3S 69E 13 | 8S 45E 32
1N 50E 01 | 2N 50E 14 | 2S 68E 23 | 3S 69E 14 | 8S 45E 33
1N 50E 12 | 2N 50E 24 | 2S 68E 25 | 3S 69E 15 | 9S 45E 02
1N 51E 05 | 2N 50E 25 | 2S 68E 26 | 3S 69E 22 | 9S 45E 03
1N 51E 06 | 2N 50E 36 | 2S 68E 27 | 3S 69E 23 | 9S 45E 04
1N 51E 07 | 2N 51E 18 | 2S 68E 28 | 3S 69E 24 | 9S 45E 05
1N 51E 08 | 2N 51E 19 | 2S 68E 29 | 3S 69E 25 | 9S 45E 06
1N 51E 16 | 2N 51E 30 | 2S 68E 30 | 3S 70E 08 | 9S 45E 09
1N 51E 17 | 2N 51E 31 | 2S 68E 31 | 3S 70E 09 | 9S 45E 10
1N 51E 18 | 2N 56E 36 | 2S 68E 32 | 3S 70E 10 | 9S 45E 11
1N 51E 19 | 2N 57E 13 | 2S 68E 33 | 3S 70E 11 | 9S 45E 12
1N 51E 20 | 2N 57E 14 | 2S 68E 34 | 3S 70E 12 | 9S 45E 13
1N 51E 21 | 2N 57E 22 | 2S 68E 35 | 3S 70E 13 | 9S 45E 14
1N 51E 22 | 2N 57E 23 | 2S 68E 36 | 3S 70E 14 | 9S 45E 24
1N 51E 26 | 2N 57E 24 | 2S 69E 30 | 3S 70E 15 | 9S 46E 07
1N 51E 27 | 2N 57E 25 | 2S 69E 31 | 3S 70E 16 | 9S 46E 17
1N 51E 28 | 2N 57E 26 | 2S 69E 32 | 3S 70E 17 | 9S 46E 18
1N 51E 29 | 2N 57E 27 | 2S 69E 33 | 3S 70E 18 | 9S 46E 19
1N 51E 33 | 2N 57E 28 | 3.2N 50E 33 | 3S 70E 19 | 9S 46E 20
1N 51E 34 | 2N 57E 29 | 3.2N 50E 34 | 3S 70E 20 | 9S 46E 21
1N 51E 35 | 2N 57E 31 | 3N 48E 13 | 3S 70E 22 | 9S 46E 22
1N 51E 36 | 2N 57E 32 | 3N 48E 23 | 3S 70E 23 | 9S 46E 26
1N 55E 13 | 2N 57E 33 | 3N 48E 24 | 3S 70E 24 | 9S 46E 27
1N 55E 14 | 2N 57E 34 | 3N 48E 25 | 4N 49.2E 25 | 9S 46E 28
1N 55E 21 | 2N 57E 35 | 3N 48E 26 | 4N 49.2E 26 | 9S 46E 29
1N 55E 22 | 2N 57E 36 | 3N 48E 27 | 4N 49.2E 27 | 9S 46E 33
1N 55E 23 | 2N 58E 02 | 3N 48E 34 | 4N 49.2E 34 | 9S 46E 34 9S 46E 35 9S 46E 36

The area described contains 308,600 acres in Clark, Esmeralda, Lincoln, and Nye Counties.

This withdrawal approximates the land encompassed by the Caliente rail corridor as described in the Department of Energy's Final Environmental Impact Statement for a Geologic Repository for the Disposal of Spent Nuclear Fuel and High-Level Radioactive Waste at Yucca Mountain, Nye County, Nevada, February 2002. The purpose of the withdrawal is to evaluate the land for the potential construction and operation of a branch rail line for the transportation of spent nuclear fuel and high-level radioactive waste in the event the Nuclear Regulatory Commission authorizes a geologic repository at Yucca Mountain as provided for under the Nuclear Waste Policy Act of 1982, as amended.

For a period of 90 days from the date of publication of this notice, all persons who wish to submit comments, suggestions, or objections in connection with the proposed withdrawal may present their views in writing to the Nevada State Director of the Bureau of Land Management.

Notice is hereby given that there will be at least one public meeting in connection with the proposed withdrawal to be announced at a later date. A notice of the time, place, and date will be published in the Federal Register and a local newspaper at least 30 days before the scheduled date of a meeting.

Comments, including names and street addresses of commenters, will be available for public review at the Nevada State Office, 1340 Financial Boulevard, Reno, Nevada, during regular business hours 7:30 a.m. to 4:30 p.m., Monday through Friday, except holidays. Individual respondents may request confidentiality. If you wish to hold your name or address from public review or from disclosure under the Freedom of Information Act, you must state this prominently at the beginning of your comments. Such requests will be honored to the extent allowed by law. All submissions from organizations or businesses will be made available for public inspection in their entirety.

The application will be processed in accordance with the regulations set forth in 43 CFR Part 2300.

For a period of 2 years from December 29, 2003, in accordance with 43 CFR 2310.2(a), the lands described in this notice will be segregated from surface entry and mining, unless the application is denied or canceled, or the withdrawal is approved prior to that date. Other uses which may be permitted during this segregative period are rights-of-way, leases, and permits as long as they do not conflict with the proposed withdrawal.

Dated: December 19, 2003.
Margaret L. Jensen,
Deputy State Director, Natural Resources, Lands, and Planning.

[FR Doc. 03-31901 Filed 12-24-03; 8:45 am]

BILLING CODE 4310-HC-P